FEDERAL COMMUNICATIONS COMMISSION

[CC Docket No. 92-105; DA 04-3219]

Parties Asked To Refresh Record Regarding Reconsideration of the Designation by the Commission of 211 and 511 as Abbreviated Dialing Codes

AGENCY: Federal Communications Commission.

ACTION: Notice; solicitation of comments.

SUMMARY: In this document, the Commission invites interested parties to refresh the record pertaining to petitions for reconsideration filed with respect to the designation of 211 and 511 as abbreviated dialing codes.

DATES: Interested parties may file supplemental comments updating their previously filed petitions for reconsideration no later than November 12, 2004. Oppositions or responses to these comments may be filed no later than November 19, 2004.

ADDRESSES: Federal Communications Commission, 445 Twelfth Street, SW., Washington, DC 20554. See SUPPLEMENTARY INFORMATION for further filing instructions.

FOR FURTHER INFORMATION CONTACT: Marilyn Jones, Telecommunications Access Policy Division, Wireline Competition Bureau, (202) 418-7400.

SUPPLEMENTARY INFORMATION: In a Public Notice in this proceeding released on October 8, 2004, the Commission invites interested parties to update the record pertaining to petitions for reconsideration filed with respect to the designation of 211 and 511 as abbreviated dialing codes by the Commission in the Third Report and Order in CC Docket No. 92-105, The Use of N11 Codes and Other Abbreviated Dialing Arrangements (211/511 Assignment Order), 66 FR 9674, February 9, 2001.

On July 31, 2000, the Commission released the 211/511 Assignment Order. In this Report and Order, the Commission, among other things, assigned the abbreviated dialing code 511 to be used for access to traveler information services, and the abbreviated dialing code 211 to be used for access to community information and referral services. Five petitions for reconsideration of the 211/511 Assignment Order, as it applies to CMRS providers, were filed. Because the petitions for reconsideration were filed some time ago, the passage of time and intervening developments may have rendered the records developed for those petitions stale. Moreover, some issues raised in the petitions for reconsideration may have become moot or irrelevant in light of intervening events.

For these reasons, the Wireline Competition Bureau requests that interested parties that filed petitions for reconsideration following the release of the 211/511 Assignment Order identify issues from that order that remain unresolved now and supplement those petitions, in writing, to indicate which findings they still wish to be reconsidered. To the extent that intervening events may have materially altered the circumstances surrounding filed petitions or the relief sought by filing parties, those entities may refresh the record with new information or arguments related to their original filings that they believe to be relevant to the issues. The previously filed petitions will be deemed withdrawn and will be dismissed if parties do not indicate in writing an intent to pursue their respective petitions for reconsideration. The refreshed record will enable the Commission to undertake appropriate and expedited reconsideration of the implementation of its 211 and 511 assignments.

Interested parties may file supplemental comments updating their previously filed petitions for reconsideration no later than November 12, 2004. Oppositions or responses to these comments may be filed no later than November 19, 2004. All pleadings are to reference CC Docket No. 92-105. Comments may be filed using: (1) The Commission's Electronic Comment Filing System (ECFS), (2) the Federal Government's eRulemaking Portal, or (3) by filing paper copies. See Electronic Filing of Documents in Rulemaking Proceedings, 63 FR 24121 (May 1, 1998).

Comments filed through the ECFS can be sent as an electronic file via the Internet to http://www.fcc.gov/cgb/ecfs/. Generally, only one copy of an electronic submission must be filed. If multiple docket or rulemaking numbers appear in the caption of this proceeding, however, commenters must transmit one electronic copy of the comments to each docket or rulemaking number referenced in the caption. In completing the transmittal screen, commenters should include their full name, U.S. Postal Service mailing address, and the applicable docket or rulemaking number. Parties may also submit an electronic comment by Internet e-mail. To get filing instructions for e-mail comments, commenters should send an e-mail to ecfs@fcc.gov, and should include the following words in the body of the message, “get form.” A sample form and directions will be sent in reply. Parties who choose to file by paper must file an original and four copies of each filing. If more than one docket or rulemaking number appears in the caption of this proceeding, commenters must submit two additional copies for each additional docket or rulemaking number.

Parties who choose to file by paper must file an original and four copies of each filing. One (1) courtesy copy should also be sent to Sheryl Todd, Wireline Competition Bureau, FCC, Room 5-B540, 445 12th Street, SW., Washington, DC 20554. Filings can be sent by hand or messenger delivery, by commercial overnight courier, or by first-class or overnight U.S. Postal Service mail (although we continue to experience delays in receiving U.S. Postal Service mail).

The Commission's contractor, Natek, Inc., will receive hand-delivered or messenger-delivered paper filings for the Commission's Secretary at 236 Massachusetts Avenue, NE., Suite 110, Washington, DC 20002. The filing hours at this location are 8 a.m. to 7 p.m. All hand deliveries must be held together with rubber bands or fasteners. Any envelopes must be disposed of before entering the building. Commercial overnight mail (other than U.S. Postal Service Express Mail and Priority Mail) must be sent to 9300 East Hampton Drive, Capitol Heights, MD 20743. U.S. Postal Service first-class mail, Express Mail, and Priority Mail should be addressed to 445 12th Street, SW., Washington, DC 20554. All filings must be addressed to the Commission's Secretary, Office of the Secretary, Federal Communications Commission.

The original petitions for reconsideration that parties filed in 2001 are available for inspection and copying during business hours at the FCC Reference Information Center, Portals II, 445 12th St., SW., Room CY-A257, Washington, DC 20554. The documents may also be purchased from Best Copy and Printing, Inc., Portals II, 445 12th Street, SW., Room CY-B402, Washington, DC 20554, telephone 1-800-378-3160, or via e-mail http://www.bcpiweb.com.

This matter shall be treated as a “permit-but-disclose” proceeding in accordance with the Commission's ex parte rules. See 47 CFR 1.1200, 1.1206. Persons making oral ex parte presentations are reminded that memoranda summarizing the presentations must contain summaries of the substance of the presentations and not merely a listing of the subjects discussed. More than a one- or two-sentence description of the views and arguments presented is generally required. See 47 CFR 1.1206(b). Other rules pertaining to oral and written ex parte presentations in permit-but-disclose proceedings are set forth in section 1.1206(b) of the Commission's rules, 47 CFR 1.1206(b).

Dated: October 25, 2004.
Cheryl L. Callahan,
Assistant Chief, Wireline Competition Bureau.

[FR Doc. 04-24271 Filed 10-28-04; 8:45 am]

BILLING CODE 6712-01-P